DEPARTMENT OF ENERGY

Federal Energy Regulatory Commission

[Docket No. CP17-178-000]

Notice of Schedule for Environmental Review of the Alaska Gasline Development Corporation Alaska LNG Project

On April 17, 2017, the Alaska Gasline Development Corporation (AGDC) filed an application in Docket No. CP17-178-000 requesting authorization pursuant to section 3(a) of the Natural Gas Act (NGA) to construct and operate liquefied natural gas (LNG) export facilities. The proposed project is known as the Alaska LNG Project (Project) and would commercialize natural gas resources on the North Slope during the economic life of the Prudhoe Bay Unit field and provide at least five interconnection points along the pipeline to allow for in-state gas deliveries.

On May 1, 2017, the Federal Energy Regulatory Commission (FERC or Commission) issued its Notice of Application for the Project. Among other things, that notice alerted other agencies issuing federal authorizations of the requirement to complete all necessary reviews and to reach a final decision on the request for a federal authorization within 90 days of the date of issuance of the Commission staff's final Environmental Impact Statement (EIS) for the Alaska LNG Project. This instant notice identifies the FERC staff's planned schedule for completion of the final EIS for the Project, which is based on an issuance of the draft EIS in March 2019.

Schedule for Environmental Review

Issuance of Notice of Availability of the final EIS—December 9, 2019

90-Day Federal Authorization Decision Deadline—March 8, 2020

If a schedule change becomes necessary for the final EIS, an additional notice will be provided so that the relevant agencies are kept informed of the Project's progress.

Project Description

AGDC is seeking authorization to construct, own, and operate a new gas treatment plant near Prudhoe Bay; a 1.0-mile-long, 60-inch-diameter Prudhoe Bay Unit Gas Transmission Line; a 62.5-mile-long, 32-inch-diameter Point Thomson Unit Gas Transmission Line; a 806.6-mile-long, 42-inch-diameter natural gas pipeline from the gas treatment plant to the LNG terminal in Nikiski; an LNG terminal with a 20 million ton per annum liquefaction capacity; associated aboveground facilities; and non-jurisdictional facilities in Alaska. The Project would have an annual average inlet design capacity of up to 3.7 billion standard cubic feet per day and a 3.9 billion standard cubic feet per day peak capacity of natural gas.

Background

On September 12, 2014, the Commission staff granted AGDC's request to use the FERC's Pre-filing environmental review process and assigned the Alaska LNG Project Docket No. PF14-21-000. On March 4, 2015, the Commission issued a Notice of Intent to Prepare an Environmental Impact Statement for the Planned Alaska LNG Project and Request for Comments on Environmental Issues (NOI) during the pre-filing review. In October 2015, FERC issued two supplemental Notices regarding public scoping meetings for the Alaska LNG Project. On July 27, 2016, FERC also issued a Supplemental Notice Requesting Comments on the Denali National Park and Preserve Alternative for the Planned Alaska LNG Project.

The NOI and supplemental notices were sent to federal, state, and local government agencies; elected officials; affected landowners; environmental and public interest groups; Native American tribes and regional organizations; commentors and other interested parties; and local libraries and newspapers. Major issues raised during scoping include impacts on traditional Alaska Native culture, particularly subsistence; health impacts on local communities; impacts on wetlands, including through placement of permanent gravel fill; visual impacts from key observation points, including within the Denali National Park and Preserve; impacts of dredging and identification of disposal methods; wildlife impacts, specifically on the caribou population and its migration routes, the endangered Cook Inlet beluga whale population, and Cook Inlet fish habitat; and transportation impacts.

The U.S. Department of Transportation, Pipeline and Hazardous Material Safety Administration; U.S. Environmental Protection Agency; U.S. Army Corps of Engineers; U.S. Coast Guard; Bureau of Land Management; U.S. Fish and Wildlife Service; National Marine Fisheries Service; National Park Service; and U.S. Department of Energy are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP17-178), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: March 12, 2018.
Kimberly D. Bose,
Secretary.

[FR Doc. 2018-05427 Filed 3-16-18; 8:45 am]

BILLING CODE 6717-01-P